ENVIRONMENTAL PROTECTION AGENCY

40 CFR Part 300

[FRL-7900-1]

National Oil and Hazardous Substances Pollution Contingency Plan; National Priorities List

AGENCY: Environmental Protection Agency.

ACTION: Direct Final Deletion of the RCA Del Caribe Superfund Site from the National Priorities List.

SUMMARY: The Environmental Protection Agency (EPA), Region 2, announces the deletion of the RCA Del Caribe Superfund Site (Site), located in Barceloneta, Puerto Rico, from the National Priorities List (NPL) and requests public comment on this action. The NPL is appendix B of the National Oil and Hazardous Substances Pollution Contingency Plan (NCP), 40 CFR part 300, which EPA promulgated pursuant to section 105 of the Comprehensive Environmental Response, Compensation, and Liability Act (CERCLA) of 1980, as amended. This Direct Final Notice of Deletion is being published by EPA with the concurrence of the Commonwealth of Puerto Rico, through the Puerto Rico Environmental Quality Board (EQB). EPA and EQB have determined that the release poses no significant threat to public health or the environment and, therefore, taking of remedial measures is not appropriate.

DATES: This direct final deletion will be effective June 17, 2005, unless EPA receives significant adverse comments by May 18, 2005. If significant adverse comments are received, EPA will publish a timely withdrawal of the direct final deletion in the Federal Register, informing the public that the deletion will not take effect.

ADDRESSES: Written comments should be mailed to: Adalberto Bosque, Remedial Project Manager, Caribbean Environmental Protection Division, U.S. Environmental Protection Agency, Region 2, Centro Europa Building, Suite 417, 1492 Ponce de Leon Avenue, San Juan, Puerto Rico 00907.

Information Repositories: Comprehensive information about the Site is available for viewing and copying at the Site information repositories located at: U.S. Environmental Protection Agency, Region 2, Caribbean Environmental Protection Division, Centro Europa Building, Suite 417, 1492 Ponce de Leon Avenue, San Juan, Puerto Rico 00907, Hours: 9 a.m. to 5 p.m., Monday through Friday. U.S. Environmental Protection Agency, Region 2, Superfund Records Center, 290 Broadway, Room 1828, New York, New York 10007-1866, (212) 637-4308, Hours: 9 a.m. to 5 p.m., Monday through Friday. Sixto Escobar Municipal Library, Escobar Avenue, Barceloneta, Puerto Rico, Hours: Monday through Thursday, 10 a.m. to 9 p.m., Friday through Saturday, 8 a.m. to 4:30 p.m., (809) 846-7056. And, Puerto Rico Environmental Quality Board, Emergency Response and Superfund Program, National Bank Plaza, 431 Ponce De Leon Avenue, Hato Rey, Puerto Rico 00917, (787) 767-8181 Ext. 2230, Hours: 9 a.m. to 3 p.m., Monday through Friday by appointment.

FOR FURTHER INFORMATION CONTACT: Mr. Adalberto Bosque, Remedial Project Manager, U.S. Environmental Protection Division, Caribbean Environmental Protection Division, Centro Europa Building Suite 417, 1492 Ponce de Leon Avenue, Santurce, Puerto Rico, 00907, (787) 977-5825; fax number (787) 289-7104; e-mail address: bosque.adalberto@epa.gov.

SUPPLEMENTARY INFORMATION:

Table of Contents

I. Introduction

II. NPL Deletion Criteria

III. Deletion Procedures

IV. Basis for Site Deletion

I. Introduction

EPA Region 2 announces the deletion of the RCA del Caribe Superfund Site (Site) from the National Priorities List (NPL). The EPA maintains the NPL as the list of those sites that appear to present a significant risk to public health or the environment. Sites on the NPL can have remedial actions financed by the Hazardous Substances Response Fund. As described in § 300.425(e)(3) of the NCP, a site deleted from the NPL remains eligible for remedial actions if conditions at the site warrant such action.

EPA considers this action to be noncontroversial and routine, and therefore, EPA is taking it without prior publication of a Notice of Intent to Delete. This action will be effective June 17, 2005, unless EPA receives significant adverse comments by May 18, 2005, on this action or on the parallel Notice of Intent to Delete published in the Notice section of today's Federal Register. If significant adverse comments are received within the 30-day public comment period of this action or the Notice of Intent to Delete, EPA will publish a timely withdrawal of this Direct Final Deletion before the effective date of the deletion and the deletion will not take effect. EPA will, if appropriate, prepare a response to comments and continue with the deletion process on the basis of the Notice Intent to Delete and the comments already received. There will be no additional opportunity to comment.

Section II explains the criteria for deleting sites from the NPL. Section III discusses procedures that EPA is using for this action. Section IV discusses the RCA del Caribe Superfund Site and demonstrates how it meets the deletion criteria.

II. NPL Deletion Criteria

Section 300.425(e) of the NCP provides that Sites may be deleted from the NPL where no further response is appropriate. In accordance with § 300.425(e)(1), EPA shall consult with the Commonwealth to determine whether any of the following criteria have been met:

i. Responsible parties or other parties have implemented all appropriate response actions required; or,

ii. All appropriate Fund-financed responses under CERCLA have been implemented, and no further action by responsible parties is appropriate; or

iii. The remedial investigation has shown that the release poses no significant threat to public health or the environment and, therefore, implementing remedial measures is not appropriate.

In addition, the Commonwealth shall concur with the deletion, as required by § 300.425(e)(2); and, the public shall be informed, as required by § 300.425(e)(4). A site which is deleted from the NPL does remain eligible for remedial actions should future conditions warrant such action, § 300.425(e)(3).

III. Deletion Procedures

The following procedures apply to deletion of the Site.

(1) The Site was listed on the NPL in December 1982. Four lined lagoons (ponds) on the Site were closed in 1985 under an approved closure plan.

(2) On April 11, 1988, a Potentially Responsible Party (PRP) entered into a joint CERCLA/ Resource Conservation and Recovery Act (RCRA) Administrative Order on Consent with EPA. The Order designated separate units of the Site to be covered under CERCLA and RCRA. The closed lagoons and groundwater contamination was to be addressed by CERCLA. Remaining sludge drying beds and sludge surface impoundments were to be addressed by RCRA.

(3) On September 30, 1994 , EPA issued a Record of Decision which concluded that no action was required for the CERCLA units of the Site.

(4) A Preliminary Close Out report was issued by EPA on September 5, 2000.

(5) Region 2, Emergency and Remedial Response Division (ERRD) evaluated site risks based on soil samples taken from the North and South Sludge Drying Beds, the Large and Small Surface Impoundment Areas and the area around the Surface Impoundment Areas. The concentrations were found to be within the risk range for residential use.

(6) Region 2 finds the September 30, 1994 ROD and the conclusion reached by ERRD in (5) above indicates that the release poses no significant threat to public health or the environment and, therefore, taking of remedial measures under CERCLA is not appropriate.

(7) EPA consulted with the Commonwealth of Puerto Rico through the Environmental Quality Board (EQB) on the deletion of this Site from the NPL, and EQB has concurred with the deletion.

(8) If no significant adverse comments are received related to this Direct Final Notice of Deletion, the Site will be deleted. If significant adverse comments are received within the 30-day public comment period established for this Direct Final Action or the Notice of Intent to Delete published in today's Federal Register, EPA will publish a timely notice of withdrawal of this Direct Final Deletion before its effective date. EPA will prepare, if appropriate, a response to comments and continue with the deletion process on the basis of the notice of Intent to Delete and the comments already received.

(9) EPA has placed copies of documents supporting the deletion in the Site information repositories identified above.

Deletion of a site from the NPL does not itself create, alter, or revoke any individual's rights or obligations. Deletion of a site from the NPL does not in any way alter EPA's right to take enforcement actions, as appropriate. The NPL is the list of uncontrolled hazardous substance releases in the United States that are priorities for long-term remedial evaluation and response.

IV. Basis for Site Deletion

The RCA del Caribe Superfund Site is the location of a former manufacturing facility in Barceloneta, Puerto Rico. The Site is situated on the north coast of the island, approximately 30 miles due west of San Juan in Barrio Afuera, Municipio de Barceloneta, Puerto Rico, 3.3 miles southwest of the center of Barceloneta. The Site is located 400 feet south of the intersection of Highways 2 and 140 and covers approximately 30 acres.

The Site was the location of a facility that manufactured low-carbon steel aperture masks for color television picture tubes by chemically etching carbon steel with a ferric chloride solution. The facility operated for approximately 17 years until April 1987. The used ferric chloride solution was a listed hazardous waste under RCRA. Used solution was stored in four lined lagoons (or ponds). Used water from the manufacturing process (process water), containing ferric chloride, was treated on-site to remove contaminants and discharged into a sinkhole at the Site. The treatment of process water created a sludge that was stored on-site in drying beds and in surface impoundments. Between 1978 and 1981, sinkholes developed on the Site causing approximately 1.4 million gallons of the ferric chloride solution from the lagoons to be spilled onto the ground and into the groundwater. Shortly thereafter, EPA conducted an investigation to determine whether the Site should be placed on the NPL. It was listed in December, 1982. The lagoons were closed in 1985 under an EPA and EQB-approved RCRA closure plan. Under the closure plan, the lining materials and related piping were removed and the lagoon areas were regraded with clean soil from other areas of the Site. From 1982 until 1987, the ferric chloride solution was stored in tanks and sold to a waste water treatment facility. The sludge remaining in the drying beds was estimated to be approximately 100 cubic yards, and the sludge within the two surface impoundments was estimated to be approximately 1,000 cubic yards.

The Radio Corporation of America (RCA) ceased operations at the facility on April 4, 1987. On December 31, 1987, General Electric Company (GE) acquired RCA and became its legal successor. On April 11, 1988, GE, as successor to RCA, entered into an Administrative Order on Consent with EPA to perform a Remedial Investigation/Feasibility Study (RI/FS) to determine the extent and magnitude of the contamination created by the release of ferric chloride. In addition, GE agreed to comply with RCRA's closure requirements for the RCRA regulated units. The RCRA portion of the Site was identified as two sludge drying beds and two sludge surface impoundments. While the Order required RCRA closure of these units, EPA later acknowledged that GE could petition EPA for the delisting of these wastes under RCRA. Subsequently, GE pursued the delisting of these wastes and on March 19, 2004, a proposed rule to delist these wastes was published in the Federal Register (Volume 69, Number 54).

For the CERCLA portion of the site, a remedial investigation was conducted by GE. On September 30, 1994, EPA issued a Record of Decision determining that the Site did not pose a significant threat to human health or the environment and, therefore, remediation was not necessary nor appropriate. This determination was based upon the remedial investigation and a risk assessment performed for the Site. This determination covered the CERCLA portion of the Site, which was defined by the soils and sediments in the four lined lagoons and any groundwater contamination associated with releases from those lagoons. On September 5, 2000 EPA issued a Preliminary Close Out Report (PCOR) finding that all remedial construction for the Site was complete.

The Municipality of Barceloneta has entered into an “Agreement For The Transfer of Physical Possession of Barceloneta Property” dated December 7, 2004. It is EPA's understanding that the Municipality intends to reuse the Site. It is the policy of EPA to support the reuse of Superfund sites. Deletion of a site from the NPL, when appropriate, supports reuse by informing the public that the site no longer poses a significant threat to public health or the environment under CERCLA.

The Site meets Commonwealth requirements that are applicable or relevant and appropriate. The finding that remediation is not appropriate is cost-effective and provides for a permanent solution meeting the requirements of CERCLA. There are no site-related hazardous substances, pollutants or contaminants which would prevent the unlimited use of this site without restricting or controlling exposures. No five-year reviews of site remedies are required by EPA regulations or policies.

EPA and EQB have determined that the release poses no significant threat to public health or the environment and, therefore, taking of remedial measures is not appropriate. Therefore, EPA is deleting this Site from the NPL.

List of Subjects in 40 CFR Part 300

Environmental protection, Air pollution control, Chemicals, Hazardous waste, Hazardous substances, Intergovernmental relations, Natural resources, Oil pollution, Penalties, Reporting and recordkeeping requirements, Superfund, Water pollution control, Water supply.

Dated: March 30, 2005.
George Pavlou,
Acting Deputy Regional Administrator, Region 2.

40 CFR part 300 is amended as follows:

PART 300—[AMENDED]

1. The authority citation for part 300 continues to read as follows:

Authority: 33 U.S.C. 1321(c)(2); 42 U.S.C. 9601-9657; E.O. 12777, 56 FR 54757, 3 CFR 1991 Comp., p. 351; and E.O. 12580, 52 FR 2923, 3 CFR 1987 Comp., p. 193.

Appendix B to Part 300 [Amended]

2. Table 1 of Appendix B to part 300 is amended by removing the site name “RCA Del Caribe, Barceloneta, PR.”

[FR Doc. 05-7572 Filed 4-15-05; 8:45 am]

BILLING CODE 6560-50-P